Proclamation 10411 of May 31, 2022

National Homeownership Month, 2022

By the President of the United States of America

A Proclamation

For many Americans, a home is more than just a residence. It is a place that instills a sense of pride, security, and comfort that, no matter what challenges in life arise, they have somewhere to go and call their own. Whether owning or renting, a home is where we can live with dignity and watch our families grow. During National Homeownership Month, we recognize the importance of housing and reaffirm our commitment to ensuring that everyone has a place to call home.

Every American should be able to afford to rent or own a home of their own. Yet across the country, the price of housing—both for renters and homebuyers—is increasing, making it harder for people to find an affordable home. Our Nation is facing a housing shortage that is driving up prices—and with housing prices near record highs, too many families are unable to make other important investments, such as furthering their education or saving for retirement.

Throughout the pandemic, my Administration has helped people who have struggled, through no fault of their own, stay in their homes by providing financial relief to help pay the mortgage or the rent. To tackle the root causes of housing affordability, my Administration released a Housing Supply Action Plan, aimed at closing the nationwide shortfall of housing for purchase and rent in 5 years through a variety of measures: incentivizing States and localities to create the conditions for more housing, improving financing tools for a wider range of housing arrangements, enhancing existing forms of financing for housing construction, and addressing other barriers to housing supply and affordability, such as supply chain issues due to the pandemic. My budget also includes investments to address the critical shortage of affordable housing and provide first-generation down payment assistance to aspiring homeowners.

Homeownership is a major source of generational wealth for many Americans—it is a central part of the American dream. But for too many Americans—especially Black and Brown Americans—homeownership and the opportunity to build and pass down wealth through it are unattainable. Longstanding inequities in the housing system, from disinvestment to redlining and mis-valuation of homes in communities of color, have locked out entire generations from the American dream and the opportunity to build generational wealth. Housing also opens up opportunities that are tied to where one lives, and it is our shared responsibility to ensure that everyone has equitable access to those opportunities—from education and stable employment to quality health care and healthy food.

My Administration is committed to ending unlawful housing discrimination and advancing equity for underserved communities. Toward that aim, we have launched an aggressive effort to combat racial discrimination in housing. I also remain committed to expanding access to homeownership opportunities for first-time home buyers and minority homebuyers while ensuring that Black and Brown families receive a fair appraisal for their homes. Through the Property Appraisal and Valuation Equity Action Plan, we have developed the most wide-ranging set of Federal reforms in history to ensure that the color of a person's skin does not determine the value of their home.

As we mark National Homeownership Month, we recognize the importance of housing for all Americans. Whether owning, renting, or aspiring to do either, we renew our commitment to lowering costs and expanding access to safe, affordable homes that all Americans need and deserve. Together, we can ensure that every American has a safe place to call home.

NOW, THEREFORE, I, JOSEPH R. BIDEN JR., President of the United States of America, by virtue of the authority vested in me by the Constitution and the laws of the United States, do hereby proclaim June 2022 as National Homeownership Month. I call upon the people of this Nation to safeguard the American Dream by ensuring that everyone has access to an affordable home in a community of their choice.

IN WITNESS WHEREOF, I have hereunto set my hand this thirty-first day of May, in the year of our Lord two thousand twenty-two, and of the Independence of the United States of America the two hundred and forty-sixth.

[FR Doc. 2022-12127

Filed 6-2-22; 8:45 am]

Billing code 3395-F2-P